NATIONAL TRANSPORTATION SAFETY BOARD

Sunshine Act Meeting

TIME AND DATE: 9:30 a.m., Tuesday, January 15, 2019.

PLACE: NTSB Conference Center, 429 L'Enfant Plaza SW, Washington, DC 20594.

STATUS: The one item is open to the public.

MATTERS TO BE CONSIDERED:

58626 Aircraft Accident Report—Runway Overrun during Rejected Takeoff, Ameristar Air Cargo, Inc., dba Ameristar Charters, flight 9363, Boeing MD-83, N786TW, Ypsilanti, Michigan, March 8, 2017.

NEWS MEDIA CONTACT: Telephone: (202) 314-6100.

The press and public may enter the NTSB Conference Center one hour prior to the meeting for set up and seating.

Individuals requesting specific accommodations should contact Rochelle McCallister at (202) 314-6305 or by email at Rochelle.McCallister@ntsb.gov by Wednesday, January 9, 2019.

The public may view the meeting via a live or archived webcast by accessing a link under “News & Events” on the NTSB home page at www.ntsb.gov.

Schedule updates, including weather-related cancellations, are also available at www.ntsb.gov.

FOR MORE INFORMATION CONTACT: Candi Bing at (202) 314-6403 or by email at bingc@ntsb.gov.

FOR MEDIA INFORMATION CONTACT: Peter Knudson at (202) 314-6100 or by email at peter.knudson@ntsb.gov.

Dated: December 21, 2018.
LaSean McCray,
Assistant Federal Register Liaison Officer.

[FR Doc. 2018-28406 Filed 12-26-18; 4:15 pm]

BILLING CODE 7533-01-P